DEPARTMENT OF THE INTERIOR

National Park Service

National Register of Historic Places; Notification of Pending Nominations

Nominations for the following properties being considered for listing in the National Register were received by the National Park Service before April 14, 2001. Pursuant to section 60.13 of 36 CFR part 60 written comments concerning the significance of these properties under the National Register criteria for evaluation may be forwarded to the National Register, National Park Service, 1849 C St. NW., NC400, Washington, DC 20240. Written comments should be submitted by May 11, 2001.

Carol D. Shull,
Keeper of the National Register of Historic Places.

ARKANSAS

Madison County

Williams House and Associated Farmstead, AR 1, St. Paul, 01000508

Marion County

Oak Grove Cemetery, 7th St., Des Arc, 01000507

CALIFORNIA

San Luis Obispo County

Carrizo Plain Rock Art Discontiguous District, Address Restricted, California Valley, 01000509

LOUISIANA

Caddo Parish

Mason House, 103 Ardmore, Shreveport, 01000512

Webster Parish

Fitzgerald House, 304 McDonald, Minden, 01000510

NORTH CAROLINA

Caldwell County

Poe, Edgar Allan, House, 506 Main St. NW, Lenoir, 01000514

Cleveland County

Central School Historic District, Roughly N. Battleground Ave., N. Piedmont Ave., E. King St., E. Ridge Ave., and N. Gaston St., Kings Mountain, 01000513

Robeson County

Rowland Depot, W. Main St. and W. Railroad St., Rowland, 01000511

TEXAS

Jasper County

Aldridge Sawmill, (Early Twentieth Century Logging Industry Historic Resources on the National Forests and Grasslands in Texas MPS), S side of Angelina National Forest, Zavalla, 01000515

Webb County

Laredo US Post Office, Court House and Custom House, 1300 Matamoros, Laredo, 01000516

UTAH

Uintah County

Carter Road, Ashley National Forest, Ashley National Forest, 01000517

A request for removal has been made for the following resources:

Beaver County

Beaver High School, (Beaver MRA), 150 N. Main St., Beaver, 82004077

Salt Lake County

Jordan High School, 9351 S. State St., Sandy, 84002203

Technical High School, 241 N. 300 West, Salt Lake City, 80003934

Summit County

Silver King Ore Loading Station, Park Ave., Park City, 78002698

Utah County

Bullock, Benjamin Kimball, Farmhouse, 1705 S. State, Provo, 85003042

Lehi Fifth Ward Meetinghouse, 121 N. 100 East, approx., Lehi, 92001688

Weber County

Burch-Taylor Mill, 4287 Riverdale Rd., Ogden, 82004186

[FR Doc. 01-10290 Filed 4-25-01; 8:45 am]

BILLING CODE 4310-70-P